DEPARTMENT OF LABOR

Employment and Training Administration

[TA-W-73,145]

The Jewelry Stream; Los Angeles, CA, Notice of Negative Determination on Reconsideration

On November 10, 2010, the Department of Labor (Department) issued an Affirmative Determination Regarding Application for Reconsideration for the workers and former workers of The Jewelry Stream, Los Angeles, California. On November 23, 2010, the Department's Notice of determination was published in the Federal Register (75 FR 71455). Workers of The Jewelry Stream are engaged in employment related to the production of jewelry.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The termination of investigation (issued on August 20, 2010) was based on information obtained during the initial investigation that the firm identified in the Trade Adjustment Assistance (TAA) petition (“M & L Manufacturing, Inc./The Jewelry Stream, 2520 W. 6th Street, Los Angeles, California”) is not one firm but are separate, unaffiliated companies. Therefore, the Department determined that the petition is invalid.

In request for reconsideration, state workforce official stated that the individual on whose behalf the TAA petition was filed believed that the aforementioned companies are one firm. In support of the request for reconsideration, the state workforce official supplied new and additional information provided by the individual who sought assistance from the state workforce official (“I started to work for M & L Manufacturing, Inc. on August of 1990, but for some reason and without notification I started to receive my checks in 2005 under the name of The Jewelry Stream * * * I was under the impression that I had worked for the same company from 1990 to 2008.”)

During the reconsideration investigation, the Department received information from the individual on whose behalf the TAA petition was filed regarding his former employer. The individual states that he was not separated from M & L Manufacturing, Inc., but separated from The Jewelry Stream on December 18, 2008. Therefore, the Department determines that the subject worker group consists of workers and former workers of The Jewelry Stream, Los Angeles, California.

Workers of a firm may be eligible to apply for worker adjustment assistance if they satisfy the criteria of subsection (a), (c) or (f) of Section 222 of the Act, 19 U.S.C. 2272(a), (c), (f). For the Department of Labor to issue a certification for workers under Section 222(a) of the Act, 19 U.S.C. 2272(a), the following three criteria must be met:

I. The first criterion (set forth in Section 222(a)(1) of the Act, 19 U.S.C. 2282(a)(1)) requires that a significant number or proportion of the workers in the workers' firm must have become totally or partially separated or be threatened with total or partial separation.

II. The second criterion (set forth in Section 222(a)(2) of the Act, 19 U.S.C. 2272(a)(2)) may be satisfied in one of two ways:

(A) Increased Imports Path:

(i) sales or production, or both, at the workers' firm must have decreased absolutely, AND

(ii) (I) imports of articles or services like or directly competitive with articles or services produced or supplied by the workers' firm have increased, OR

(II)(aa) imports of articles like or directly competitive with articles into which the component part produced by the workers' firm was directly incorporated have increased; OR

(II)(bb) imports of articles like or directly competitive with articles which are produced directly using the services supplied by the workers' firm have increased; OR

(III) imports of articles directly incorporating component parts not produced in the U.S. that are like or directly competitive with the article into which the component part produced by the workers' firm was directly incorporated have increased.

(B) Shift in Production or Supply Path:

(i)(I) there has been a shift by the workers' firm to a foreign country in the production of articles or supply of services like or directly competitive with those produced/supplied by the workers' firm; OR

(i)(II) there has been an acquisition from a foreign country by the workers' firm of articles/services that are like or directly competitive with those produced/supplied by the workers' firm.

III. The third criterion requires that the increase in imports or shift/acquisition must have contributed importantly to the workers' separation or threat of separation. See Sections 222(a)(2)(A)(iii) and 222(a)(2)(B)(ii) of the Act, 19 U.S.C. 2272(a)(2)(A)(iii), 2272(a)(2)(B)(ii).

Section 222(d) of the Act, 19 U.S.C. 2272(d), defines the terms “Supplier” and “Downstream Producer.” For the Department to issue a secondary worker certification under Section 222(c) of the Act, 19 U.S.C. 2272(c), to workers of a Supplier or a Downstream Producer, the following criteria must be met:

(1) a significant number or proportion of the workers in the workers' firm or an appropriate subdivision of the firm have become totally or partially separated, or are threatened to become totally or partially separated;

(2) the workers' firm is a Supplier or Downstream Producer to a firm that employed a group of workers who received a certification of eligibility under Section 222(a) of the Act, 19 U.S.C. 2272(a), and such supply or production is related to the article or service that was the basis for such certification; and

(3) either

(A) the workers' firm is a supplier and the component parts it supplied to the firm described in paragraph (2) accounted for at least 20 percent of the production or sales of the workers' firm; or

(B) a loss of business by the workers' firm with the firm described in paragraph (2) contributed importantly to the workers' separation or threat of separation.

Workers of a firm may also be considered eligible to apply for worker adjustment assistance if they are publicly identified by name by the International Trade Commission as a member of a domestic industry in an investigation resulting in a category of determination that is listed in Section 222(f) of the Act, 19 U.S.C. 2272(f).

The group eligibility requirements for workers of a firm under Section 222(f) of the Act, 19 U.S.C. 2272(f), can be satisfied if the following criteria are met:

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Information obtained during the initial investigation confirmed that Criterion II has not been met because The Jewelry Stream did not shift to a foreign country the production of articles like or directly competitive with jewelry produced by the subject worker group and, during the relevant period, did not increase imports of articles like or directly competitive with jewelry produced by the subject worker group. As such, the subject workers have not met the criteria set forth in Section 222(a).

Moreover, The Jewelry Stream did not produce a component part that was used by a firm that both employed a worker group eligible to apply for TAA and directly incorporated the component part in the production of an article or supply of a service that was the basis for the TAA certification. As such, the subject workers have not met the criteria set forth in Section 222(c).

Further, The Jewelry Stream has not been identified by name in an affirmative finding of injury by the International Trade Commission. As such, the subject workers have not met the criteria set forth in Section 222(f).

Conclusion

After reconsideration, I affirm the original notice of negative determination of eligibility to apply for worker adjustment assistance for workers and former workers of Jewelry Stream, Los Angeles, California.

Signed in Washington, DC, on this 14th day of February 2011.
Del Min Amy Chen,
Certifying Officer, Office of Trade Adjustment Assistance.

[FR Doc. 2011-5930 Filed 3-14-11; 8:45 am]

BILLING CODE 4510-FN-P